ADVISORY COUNCIL ON HISTORIC PRESERVATION

Notice of Advisory Council on Historic Preservation Quarterly Business Meeting

AGENCY: Advisory Council on Historic Preservation.

ACTION: Notice of Advisory Council on Historic Preservation quarterly business meeting.

SUMMARY: Notice is hereby given that the Advisory Council on Historic Preservation (ACHP) will have its next quarterly meeting on Wednesday, December 15, 2021, starting at 1:30 p.m. EDT.

DATES: The quarterly meeting will take place on Wednesday, December 15, 2021 starting at 1:30 p.m. EDT.

ADDRESSES: Due to continuing COVID-related conditions, the meeting will take place using Zoomgov.com videoconferencing. There will be no in-person attendance and, due to technical limitations, only ACHP and ACHP member staff will be able to watch live. However, a recording of the meeting will be posted on www.achp.gov when the proceedings conclude.

FOR FURTHER INFORMATION CONTACT: Tanya DeVonish, 202-517-0205, tdevonish@achp.gov.

SUPPLEMENTARY INFORMATION: The Advisory Council on Historic Preservation (ACHP) is an independent federal agency that promotes the preservation, enhancement, and sustainable use of our nation's diverse historic resources, and advises the President and the Congress on national historic preservation policy. The goal of the National Historic Preservation Act (NHPA), which established the ACHP in 1966, is to have federal agencies act as responsible stewards of our nation's historic properties when making decisions that may affect them. The ACHP is the only entity with the legal responsibility to encourage federal agencies to factor historic preservation into their decision making. For more information on the ACHP, please visit our website at www.achp.gov.

The provisional agenda for the upcoming quarterly meeting of the ACHP is the following:

Call to Order 1:30 p.m. EDT

I. Vice Chairman's Welcome and Report

II. ACHP/HUD Secretary's Award for Excellence in Historic Preservation

III. Executive Director's Report

IV. ACHP Strategic Plan Update

V. Climate Change and Historic Preservation

A. Climate Change Task Force Update

B. America the Beautiful

VI. Historic Preservation Policy and Programs

A. Legislation

B. Other Reports

VII. Section 106

A. Program Comment Panel Recommendations Implementation

B. Other Reports

VIII. Native American Affairs

A. White House Tribal Nations Summit Report

B. Other Reports

IX. Communications, Education, and Outreach

A. C-SPAN National Outreach

B. Other Reports

X. ACHP Foundation Report

XI. New Business

XII. Adjourn

Authority: 54 U.S.C. 304102.

Dated: November 29, 2021.
Javier E. Marqués,
General Counsel.

[FR Doc. 2021-26207 Filed 12-1-21; 8:45 am]

BILLING CODE 4310-K6-P